DEPARTMENT OF ENERGY

Federal Energy Regulatory Commission

Combined Notice of Filings #1

Take notice that the Commission received the following electric corporate filings:

Docket Numbers: EC14-28-000.

Applicants: Black Bear Hydro Partners, LLC,Black Bear Development Holdings, LLC, Black Bear SO, LLC, Black Bear Holding LLC.

Description: Amendment to November 14, 2013 Joint Application for Authorization Under Section 203 of Black Bear Hydro Partners, LLC, et al.

Filed Date: 11/20/13.

Accession Number: 20131120-5019.

Comments Due: 5 p.m. ET 12/5/13.

Take notice that the Commission received the following electric rate filings:

Docket Numbers: ER11-1850-004; ER13-1192-001; ER11-1847-004; ER11-1846-004; ER11-2509-006; ER11-1848-004; ER11-2598-007; ER11-2516-005; ER12-1153-004; ER12-1152-004.

Applicants: Direct Energy Business, LLC, Direct Energy Marketing Inc., Direct Energy Services, LLC, Energetix, Inc., Energy America, LLC, Gateway Energy Services Corporation, NYSEG Solutions, Inc., Bounce Energy NY, LLC, Bounce Energy PA, LLC Hess energy Marketing, LLC.

Description: Notice of Change in Status of the Centrica Companies.

Filed Date: 11/19/13.

Accession Number: 20131119-5143.

Comments Due: 5 p.m. ET 12/10/13.

Docket Numbers: ER11-3872-006.

Applicants: Stony Creek Energy LLC.

Description: Notice of Change in Status of Stony Creek Energy LLC.

Filed Date: 11/20/13.

Accession Number: 20131120-5043.

Comments Due: 5 p.m. ET 12/11/13.

Docket Numbers: ER11-4304-003.

Applicants: Golden Spread Electric Cooperative, Inc.

Description: Golden Spread Electric Cooperative, Inc. submits Supplement to Compliance Filing to April 24 Order to be effective 7/25/2012.

Filed Date: 11/20/13.

Accession Number: 20131120-5045.

Comments Due: 5 p.m. ET 12/11/13.

Docket Numbers: ER13-342-002.

Applicants: CPV Shore, LLC.

Description: Supplement to October 18, 2013 Notice of Non-Material Change in Status of CPV Shore, LLC.

Filed Date: 11/15/13.

Accession Number: 20131115-5220.

Comments Due: 5 p.m. ET 12/6/13.

Docket Numbers: ER13-1987-000.

Applicants: Catalina Solar, LLC.

Description: Catalina Solar, LLC submits Catalina Solar Notice of Effective Date of MBR Tariff Cancellation to be effective N/A.

Filed Date: 11/19/13.

Accession Number: 20131119-5124.

Comments Due: 5 p.m. ET 12/10/13.

Docket Numbers: ER13-2023-000.

Applicants: Catalina Solar, LLC.

Description: Catalina Solar, LLC submits Catalina Solar Notice of Certificate of Concurrence Effective Cancellation Date to be effective N/A.

Filed Date: 11/19/13.

Accession Number: 20131119-5129.

Comments Due: 5 p.m. ET 12/10/13.

Docket Numbers: ER13-2024-000.

Applicants: Catalina Solar Lessee, LLC.

Description: Catalina Solar Lessee, LLC submits Catalina Solar Lessee Notice of Certificate of Concurrence Effective Date to be effective N/A.

Filed Date: 11/19/13.

Accession Number: 20131119-5132.

Comments Due: 5 p.m. ET 12/10/13.

Docket Numbers: ER14-427-000.

Applicants: Public Service Company of Colorado.

Description: 2013-11-19_PSC-COGRN-WF-Rev ISA-146-0.0.0 to be effective 1/18/2014.

Filed Date: 11/19/13.

Accession Number: 20131119-5090.

Comments Due: 5 p.m. ET 12/10/13.

Docket Numbers: ER14-428-000.

Applicants: EME Homer City Generation, L.P.

Description: EME Homer City Generation, L.P. submits EME Homer City Generation, L.P. Request to Update Category Seller Status to be effective 11/20/2013.

Filed Date: 11/19/13.

Accession Number: 20131119-5098.

Comments Due: 5 p.m. ET 12/10/13.

Docket Numbers: ER14-429-000.

Applicants: Midwest Generation LLC.

Description: Midwest Generation LLC submits Midwest Generation, LLC Request for Category 1 Seller Status to be effective 11/20/2013.

Filed Date: 11/19/13.

Accession Number: 20131119-5099.

Comments Due: 5 p.m. ET 12/10/13.

Docket Numbers: ER14-430-000.

Applicants: Public Service Company of Colorado.

Description: Public Service Company of Colorado submits 2013-11-19_PSC-Barr Lake-REV-ISA-161-0.0.0 to be effective 1/18/2014.

Filed Date: 11/19/13.

Accession Number: 20131119-5105.

Comments Due: 5 p.m. ET 12/10/13.

Docket Numbers: ER14-431-000.

Applicants: Ohio Power Company.

Description: Ohio Power Company submits 11th Amd to Station Agreement Among Ohio Power-Buckeye-Cardinal to be effective 12/27/2013.

Filed Date: 11/19/13.

Accession Number: 20131119-5130.

Comments Due: 5 p.m. ET 12/4/13.

Docket Numbers: ER14-432-000.

Applicants: AEP Generation Resources Inc.

Description: AEP Generation Resources Inc. submits 12th Amd to Station Agreement Among AEP GR-Buckeye-Cardinal to be effective 1/1/2014.

Filed Date: 11/19/13.

Accession Number: 20131119-5131.

Comments Due: 5 p.m. ET 12/4/13.

Docket Numbers: ER14-433-000.

Applicants: Southern California Edison Company.

Description: Southern California Edison Company submits Notice of Cancellation of Letter Agreement with Houweling Nurseries Oxnard, Inc. to be effective 8/10/2012.

Filed Date: 11/20/13.

Accession Number: 20131120-5001.

Comments Due: 5 p.m. ET 12/11/13.

Docket Numbers: ER14-435-000.

Applicants: Public Service Company of Colorado.

Description: Public Service Company of Colorado submits 2013-11-20-PSC-SWGA-Arapahoe-ISA-163-0.0.0 to be effective 1/19/2014.

Filed Date: 11/20/13.

Accession Number: 20131120-5055.

Comments Due: 5 p.m. ET 12/11/13.

Docket Numbers: ER14-436-000.

Applicants: Public Service Company of Colorado.

Description: Public Service Company of Colorado submits 2013-11-20-PSC-SWGC-Valmont Rev-ISA-164-0.0.0 to be effective 1/19/2014.

Filed Date: 11/20/13.

Accession Number: 20131120-5063.

Comments Due: 5 p.m. ET 12/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2013.
Nathaniel J. Davis, Sr.,
Deputy Secretary.

[FR Doc. 2013-28511 Filed 11-26-13; 8:45 am]

BILLING CODE 6717-01-P